DEPARTMENT OF STATE

[Public Notice: 9752]

30-Day Notice of Proposed Information Collection: Nonimmigrant Treaty Trader/Investor Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 10, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Andrea Lage, who may be reached at PRA_BurdenComments@state.gov. You must include the DS form number, information collection, and the OMB control number in correspondence. DO NOT submit any completed Department of State visa forms to this email or any case inquiry to this email box.

SUPPLEMENTARY INFORMATION: • Title of Information Collection: Nonimmigrant Treaty Trader/Investor Application.

• OMB Control Number: 1405-0101.

• Type of Request: Extension of the Currently Approved Collection.

• Originating Office: CA/VO/L/R.

• Form Number: DS-156E.

• Respondents: E visa applicants who are deemed essential employees.

• Estimated Number of Respondents: 48,600.

• Estimated Number of Responses: 48,600.

• Average Time per Response: 4 hours.

• Total Estimated Burden Time: 194,400.

• Frequency: On Occasion.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

Section 101(a)(15)(E) of the Immigration and Nationality Act (INA), 8 U.S.C. 1101(a)(15)(E), provides nonimmigrant status for a national of a country with which the United States maintains an appropriate treaty of commerce and navigation who is coming to the United States to: (i) Carry on substantial trade, including trade in services or technology, principally between the United States and the treaty country; or (ii) develop and direct the operations of an enterprise in which the national has invested, or is actively in the process of investing. Form DS-156E is completed by foreign nationals seeking nonimmigrant treaty trader/investor visas to the United States. The Department uses the DS-156E to elicit information necessary to determine a foreign national's visa eligibility.

Methodology

After completing Form DS-160, Online Nonimmigrant Visa Applicant, certain applicants for treaty trader/investor status will fill out the DS-156E online, download it, and submit it in person or via mail to the consular post processing his/her nonimmigrant visa application.

Dated August 1, 2016.
Meredith McEvoy,
Acting Deputy Assistant Secretary, Bureau of Consular of Affairs, Department of State.

[FR Doc. 2016-24483 Filed 10-7-16; 8:45 am]

BILLING CODE 4710-06-P